DEPARTMENT OF ENERGY

State Energy Advisory Board (STEAB)

AGENCY: Energy Efficiency and Renewable Energy, Department of Energy.

ACTION: Notice of open meeting.

SUMMARY: This notice announces a live Board meeting of the State Energy Advisory Board (STEAB). The Federal Advisory Committee Act (Pub. L. 92-463; 86 Stat.770) requires that public notice of these meetings be announced in the Federal Register.

DATES: April 28, 2015 9:00 a.m. to 5:30 p.m.; April 29, 2015 9:00 a.m. to 2:30 p.m.

ADDRESSES: Hilton Garden Inn Austin Downtown/Convention Center, 500 N Interstate 35, Austin, TX 78701

FOR FURTHER INFORMATION CONTACT: Monica Neukomm, Policy Advisor, Office of Energy Efficiency and Renewable Energy, U.S. Department of Energy, 1000 Independence Ave. SW., Washington, DC 20585. Phone number 202-287-5189, and email monica.neukomm@ee.doe.gov.

SUPPLEMENTARY INFORMATION: Purpose of the Board: To make recommendations to the Assistant Secretary for the Office of Energy Efficiency and Renewable Energy regarding goals and objectives, programmatic and administrative policies, and to otherwise carry out the Board's responsibilities as designated in the State Energy Efficiency Programs Improvement Act of 1990 (Pub. L. 101-440).

Tentative Agenda: Meet with and hear from members of the Austin Technology Incubator, receive updates and information from ERCOT regarding demand response and transmission planning, meet with staff from Austin Energy, hear from EERE and DOE staff regarding updates on the new Office of Technology Transitions, explore opportunities to continue assisting with the QER year 2 process, discuss updates and provide recommendations on the Weatherization Assistance Program, tour the Mueller site and the Pecan Street sites, and update members of the Board on routine business matters.

Public Participation: The meeting is open to the public. Written statements may be filed with the Board either before or after the meeting. Members of the public who wish to make oral statements pertaining to agenda items should contact Monica Neukomm at the address or telephone number listed above. Requests to make oral comments must be received five days prior to the meeting; reasonable provision will be made to include requested topic(s) on the agenda. The Chair of the Board is empowered to conduct the meeting in a fashion that will facilitate the orderly conduct of business.

Minutes: The minutes of the meeting will be available for public review and copying within 90 days on the STEAB Web site, www.steab.org.

Issued at Washington, DC, on March 25, 2015.
LaTanya Butler,
Deputy Committee Management Officer.

[FR Doc. 2015-07379 Filed 3-30-15; 8:45 am]

BILLING CODE 6450-01-P